CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled VISTA Alumni Outreach to the Office of Management and Budget (OMB) for review and approval in accordance with the Paperwork Reduction Act of 1995, Public Law 104-13, (44 U.S.C. Chapter 35). Copies of this ICR, with applicable supporting documentation, may be obtained by calling the Corporation for National and Community Service, Elizabeth Matthews at (202) 606-6774. Individuals who use a telecommunications device for the deaf (TTY-TDD) may call (202) 606-3472 between 8:30 a.m. and 5 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on November 5, 2009. This comment period ended on Friday, December 4, 2009. No public comments were received from this Notice.

Description: The Corporation is seeking approval of VISTA Alumni Outreach information collection. The goal of this project is to contact the 177,000 VISTA Alumni and ask them to take three actions; (1) Go online to VISTACampus.org and create an account; (2) Go online to My.AmeriCorps.gov and register; (3) Fill out a questionnaire IF they are interested in promoting and recruiting for VISTA. By creating an account through the VISTACampus.org and registering through MyAmeriCorps.gov, we can obtain their email addresses and keep them informed about future alumni-related activities. This is especially important as VISTA is celebrating its 45th anniversary in 2010 and there will be numerous activities for alumni to participate in across the country.

The Corporation has obtained the mailing addresses for all 177,000 alumni. There have been two postcards designed to mail to the alumni. The postcard text directs alumni to the VISTACampus.org and MyAmeriCorps.gov to update their contact information. When approved, the postcards will be mailed, information will be posted on the VISTA Campus explaining the registration process, the questionnaire will be posted, and alumni can begin to participate in recruitment efforts.

Type of Review: New Information Collection.

Agency: Corporation for National and Community Service.

Title: VISTA Alumni Outreach.

OMB Number: None.

Agency Number: None.

Affected Public: AmeriCorps VISTA Alumni.

Total Respondents: 177,000.

Frequency: Ongoing.

Average Time per Response: Estimated at 30 minutes for first time respondents and 15 minutes for previously registered alumni updating information. Estimated 30 minutes for VISTA alumni outreach questionnaire (estimated 500 people).

Estimated Total Burden Hours: 88,500 (for alumni creating and updating accounts on both VISTACampus.org and My.AmeriCorps.gov/250 (for alumni completing questionnaire).

Total Burden Cost (capital/startup): None.

Total Burden Cost (operating/maintenance): None.

Dated: January 6, 2010.
Paul Davis,
Acting Director, AmeriCorps VISTA.

[FR Doc. 2010-371 Filed 1-11-10; 8:45 am]

BILLING CODE 6050-$$-P